DEPARTMENT OF EDUCATION

Student Financial Assistance

[CFDA No.: 84.069]

Leveraging Educational Assistance Partnership and Special Leveraging Educational Assistance Partnership Programs

AGENCY: Department of Education.

ACTION: Notice of the closing date for receipt of State applications for Award Year 2001-2002 funds under the Leveraging Educational Assistance Partnership (LEAP) and Special Leveraging Educational Assistance Partnership (SLEAP) Programs.

Purpose of Program

The LEAP and SLEAP Programs, authorized under Title IV, Part A, Subpart 4 of the Higher Education Act of 1965 as amended (HEA), assist States in providing aid to students with substantial financial need to help them pay for their postsecondary education costs through matching formula grants to States. Under section 415C(a) of the HEA, a State must submit an application to participate in the LEAP and SLEAP Programs through the State agency that administered its LEAP Program as of July 1, 1985, unless the Governor of the State has subsequently designated, and the Department has approved, a different State agency to administer the LEAP Program.

Eligible Applicants

Only the 50 States, the District of Columbia, the Commonwealth of Puerto Rico, American Samoa, Guam, the Commonwealth of the Northern Mariana Islands, and the Virgin Islands may submit an application for funding under the LEAP and SLEAP Programs.

State allotments for each award year are determined according to the statutorily mandated formula under section 415B of the HEA and are not negotiable. A State may also request its share of reallotment, in addition to its basic allotment, which is contingent upon the availability of such additional funds.

In Award Year 2000-2001, 45 States, the District of Columbia, American Samoa, Guam, Northern Mariana Islands, Puerto Rico, and the Virgin Islands received funds under the LEAP Program.

Deadlines for Receipt of Applications

To receive an allotment under the LEAP and SLEAP programs for Award Year 2001-2002, applications submitted electronically must be received by 11:59 p.m. (Eastern time) May 18, 2001. Paper applications must be received by May 15, 2001.

On-Line Application Submitted Electronically

The Financial Partners Channel within Student Financial Assistance has automated the LEAP and SLEAP application process in the Financial Management System (FMS). Applicants are strongly encouraged to use the new web-based form (Form 1288-E OMB 1845-0028) which is available on the FMS LEAP on-line system at the following Internet address: http://fms.sfa.ed.gov.

Paper Application Delivered by Mail

States or territories may request a paper version of the application (Form 1288 OMB 1845-0028) by calling Mr. Greg Gerrans, LEAP Program Manager, Student Financial Assistance, Financial Partners Channel at (202) 708-4695. A paper version will be mailed to you. An application sent by mail must be addressed to: Mr. Greg Gerrans, LEAP Program Manager, Financial Partners, U.S. Department of Education, Student Financial Assistance, 7th and D Streets, SW., ROB-3, Room 4616, Washington, DC 20202.

The Department of Education encourages applicants that request to complete a paper application use certified or at least first-class mail when mailing to the Department. Applications that are mailed must be received by the Department on the applicable deadline.

A late applicant cannot be assured that its application will be considered for Award Year 2001-2002 funding.

Paper Applications Delivered by Hand

Applications that are hand-delivered must be taken to Mr. Greg Gerrans, LEAP Program Manager, Financial Partners, U.S. Department of Education, Student Financial Assistance, 7th and D Streets, SW., ROB-3, Room 4616, Washington, DC. Hand-delivered applications will be accepted between 8 a.m. and 4:30 p.m. daily (Eastern time), except Saturdays, Sundays, and Federal holidays.

Applications that are hand-delivered will not be accepted after 4:30 p.m. on the deadline date.

Applicable Regulations

The following regulations are applicable to the LEAP and SLEAP Programs:

(1) The LEAP and SLEAP Programs regulations in 34 CFR part 692.

(2) The Student Assistance General Provisions in 34 CFR part 668.

(3) Institutional Eligibility under the Higher Education Act of 1965, as amended in 34 CFR part 600.

(4) The Education Department General Administrative Regulations (EDGAR) in 34 CFR 75.60 through 75.62 (Ineligibility of Certain Individuals to Receive Assistance), part 76 (State-Administered Programs), part 77 (Definitions that Apply to Department Regulations), part 79 (Intergovernmental Review of Department of Education Programs and Activities), part 80 (Uniform Administrative Requirements for Grants and Cooperative Agreements to State and Local Governments), part 82 (New Restrictions on Lobbying), part 85 (Governmentwide Debarment and Suspension (Nonprocurement) and Governmentwide Requirements for Drug-Free Workplace (Grants)), part 86 (Drug-Free Schools and Campuses) and part 99 (Family Educational Rights and Privacy Act).

FOR FURTHER INFORMATION CONTACT: Mr. Greg Gerrans, LEAP Program Manager, Financial Partners, U.S. Department of Education, Student Financial Assistance, 7th and D Streets, SW., ROB-3, Room 4616, Washington, DC 20202; telephone (202) 708-4695.

If you use a telecommunications device for the deaf (TDD), you may call the Federal Information Relay Service (FIRS) at 1-800-877-8339.

Individuals with disabilities may obtain this document in an alternative format (e.g., Braille, large print, audiotape, or computer diskette) on request to the contact person listed under FOR APPLICATIONS AND FURTHER INFORMATION CONTACT.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.access.gpo.gov/nara/index.html.

(Authority: 20 U.S.C. 1070c et seq.)
Dated: April 2, 2001.
Greg Woods,
Chief Operating Officer, Student Financial Assistance.

[FR Doc. 01-8679 Filed 4-6-01; 8:45 am]

BILLING CODE 4000-01-P